DEPARTMENT OF DEFENSE

Department of the Navy

Notice of Intent To Prepare an Environmental Impact Statement for the Southern Regional Tertiary Treatment System at Marine Corps Base, Camp Pendleton, CA

AGENCY: Department of the Navy, DOD.

ACTION: Notice.

SUMMARY: Per Section 102(2)(C) of the National Environmental Policy Act (NEPA) of 1969, as implemented by the Council on Environmental Quality Regulations (40 CFR parts 1500-1508), the Department of the Navy announces its intent to prepare an Environmental Impact Statement (EIS) to evaluate the environmental effects of construction and operation of a consolidated tertiary treatment plant, associated conveyance systems, reclamation systems (i.e., reuse), and discharge systems for the southern portion of Marine Corps Base (MCB), Camp Pendleton, CA. This project would eliminate five existing secondary treatment plants and establish one regional tertiary treatment system plant in the Santa Margarita Basin.

ADDRESSES AND DATES: The Marine Corps will hold a public scoping meeting on June 19, 2001, beginning at 7 p.m., at the City of Oceanside Civic Center (Community Room) located at 300 North Coast Highway, Oceanside, CA.

FOR FURTHER INFORMATION CONTACT: Written statements and questions regarding the scoping process should be mailed to Ms. Sandra Baldwin, Code 5CPR.SB, Southwest Division, Naval Facilities Engineering Command, 1220 Pacific Highway, San Diego, CA 92132-5190, phone (619) 532-4817. All scoping comments should be received not later than July 8, 2001.

SUPPLEMENTARY INFORMATION: MCB Camp Pendleton currently exceeds existing wastewater quality standards for the discharge of secondary-treated effluent to the Santa Margarita River and is under Cease and Desist Order (CDO) No. 99-41 for five sewage treatment plants (STPs). To resolve this CDO, MCB Camp Pendleton must provide a sewage treatment systems that meets the water quality objectives and effluent limitations established by the San Diego Regional treatment system that meets the water quality objectives and effluent limitations established by the San Diego Regional Water Quality Control Board (RWQCB).

As a temporary solution, the city of Oceanside has agreed to allow MCB Camp Pendleton to dispose of secondary-treated effluent via the city's existing ocean outfall. The agreement stipulates that use of the outfall is for a five year period commencing on the date the base begins pumping effluent into the outfall (expected to begin in Summer 2001). To reach the outfall, MCB Camp Pendleton is currently constructing a 2.2 mile pipeline from the base through the City, as considered in the Final Environmental Impact Statement/Report for P-527B, Sewage Effluent Compliance Project, Lower Santa Margarita Basin, Marine Corps Base, Camp Pendleton, dated April 1997. This temporary agreement is intended to allow MCB Camp Pendleton to meet State of California discharge requirements while developing and constructing on-Base base treatment and disposal facilities.

As a long-term solution, the proposed action would: (1) Construct a consolidated, southern regional treatment plant to provide tertiary treatment with sufficient capacity for all wastewater currently undergoing secondary treatment within the Santa Margarita Basin at STPs 1, 2, 3, 8, and 13, and STP 9 located in the Las Pulgas Basin; (2) Construct sewage conveyance systems (pump stations, force mains and gravity lines) from STPs 1, 2, 3, 8, and 13 to the new plant; (3) Dispose of tertiary-treated effluent by a combination of water reclamation and live-stream discharge to the Santa Margarita River; and (4) Implement a watercourse monitoring and management plan.

Alternatives currently to be addressed in the EIS include: locating on-base the site and construction of the southern regional tertiary treatment plant within the Santa Margarita Basin, including alternative conveyance pipeline alignments, alternative live-stream treated effluent discharge locations, and alternative land application locations; off-base public/private venture treatment facilities; on-base construction of new secondary treatment facilities and construction of an ocean outfall discharge; and no action.

Major environmental issues that will be addressed in the EIS include land use, hydrology, water quality, air quality, biological resources including critical habitat, cultural resources, noise, traffic/circulation/access, public services and utilities, human health and safety, and hazardous materials and waste management.

The Marine Corps will initiate a scoping process for the purpose of determining the extent of issues to be addressed and identifying the significant issues related to this action. The Marine Corps will hold a public scoping meeting as identified in the Dates and Addresses section of this notice. This meeting will also be advertised in area newspapers.

Marine Corps representatives will be available at this meeting to receive comments from the public regarding issues of concern to the public. Federal, state, and local agencies and interested individuals are encouraged to take this opportunity to identify environmental concerns that should be addressed during the preparation of the EIS.

Agencies and the public are also invited and encouraged to provide written comments on scoping issues in addition to, or in lieu of, oral comments at the public meeting. To be most helpful, scoping comments should clearly describe specific issues or topics that the commenterer believes the EIS should address.

Dated: April 11, 2001.
Duncan Holaday,
Deputy Assistant Secretary of the Navy, (Installations and Facilities).

[FR Doc. 01-10221 Filed 4-24-01; 8:45 am]

BILLING CODE 3810-FF-U